FEDERAL ELECTION COMMISSION

11 CFR Parts 100, 104, and 110

[Notice 2009-07]

Reporting Contributions Bundled by Lobbyists, Registrants and the PACs of Lobbyists and Registrants

AGENCY: Federal Election Commission.

ACTION: Final rule; correction.

SUMMARY: The Federal Election Commission is correcting a compliance date that appeared in the Federal Register of February 17, 2009 (74 FR 7285). The document issued the final rules regarding the disclosure of information about bundled contributions provided by certain lobbyists, registrants and political committees established or controlled by lobbyists and registrants.

DATES: This correction is effective March 19, 2009. The final rule published on February 17, 2009 remains effective on March 19, 2009, and the compliance date for paragraphs (b) and (e) of 11 CFR 104.22 remains May 18, 2009. However, political committees that are “lobbyist/registrant PACs” must amend their FEC Form 1 (Statement of Organization) by March 29, 2009.

FOR FURTHER INFORMATION CONTACT: Ms. Amy L. Rothstein, Assistant General Counsel, Ms. Cheryl A.F. Hemsley, or Ms. Esther Heiden, Attorneys, 999 E Street, NW., Washington, DC 20463, (202) 694-1650 or (800) 424-9530.

SUPPLEMENTARY INFORMATION: The Commission is publishing this document to correct an error that appeared in FR Doc. E9-2838, on page 7285 in the Federal Register of Tuesday, February 17, 2009 (74 FR 7285). The correction is as follows:

DATES: [Corrected]

On page 7285, in the first column, in the DATES section, the deadline for lobbyist/registrant PACs to amend their FEC Form 1 (Statement of Organization) is corrected to read as follows: “Political committees that are “lobbyist/registrant PACs” must amend their FEC Form 1 (Statement of Organization) by March 29, 2009.”

On behalf of the Commission,
Dated: February 27, 2009.
Steven T. Walther,
Chairman, Federal Election Commission.

[FR Doc. E9-4653 Filed 3-4-09; 8:45 am]

BILLING CODE 6715-01-P